DEPARTMENT OF COMMERCE

National Oceanic and Atmospheric Administration

Correction: Proposed Information Collection; Comment Request; Comprehensive Data Collection on Fishing Dependence of Alaska Communities

AGENCY: National Oceanic and Atmospheric Administration (NOAA).

ACTION: Correction.

SUMMARY: On September 28, 2010, a notice was published in the Federal Register (75 FR 59687) on the proposed information collection, Comprehensive Data Collection on Fishing Dependence of Alaska Communities.

Under the heading FOR FURTHER INFORMATION CONTACT, the e-mail address is corrected to read Amber.Himes@noaa.gov.

All other information in the notice is correct and remains unchanged.

Dated: October 6, 2010.
Gwellnar Banks,
Management Analyst, Office of the Chief Information Officer.

[FR Doc. 2010-25581 Filed 10-8-10; 8:45 am]

BILLING CODE 3510-22-P